FEDERAL ELECTION COMMISSION

[Notice 2019-06]

Filing Dates for the North Carolina Special Election in the 3rd Congressional District

AGENCY: Federal Election Commission.

ACTION: Notice of filing dates for special election.

SUMMARY: North Carolina has scheduled special elections to fill the U.S. House of Representatives seat in the 3rd Congressional District held by the late Representative Walter B. Jones Jr.

DATES: There are three possible special elections, but only two may be necessary.

• Special Primary Election: April 30, 2019.

• Possible Special Runoff Election: July 9, 2019. In the event that the top vote-getter does not achieve over 30% of the votes cast in his/her party's Special Primary Election, the top two vote-getters of that party will participate in a Special Runoff Election.

• Special General Election: September 10, 2019. However, if a Special Runoff Election is not necessary, the Special General will instead be held on July 9, 2019.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

Special Primary Only

All principal campaign committees of candidates only participating in the North Carolina Special Primary Election shall file a Pre-Primary Report on April 18, 2019. (See chart below for the closing date for the report).

Special Primary and Special General Without Special Runoff

If only two elections are held, all principal campaign committees of candidates participating in the North Carolina Special Primary and Special General Elections shall file a Pre-Primary Report on April 18, 2019; a Pre-General Report on June 27, 2019; and a Post-General Report on August 8, 2019. (See chart below for the closing date for each report).

Special Primary and Special Runoff Elections

If three elections are held, all principal campaign committees of candidates only participating in the North Carolina Special Primary and Special Runoff Elections shall file a Pre-Primary Report on April 18, 2019; and a Pre-Runoff Report on June 27, 2019. (See chart below for the closing date for each report.)

Special Primary, Special Runoff and Special General Elections

All principal campaign committees of candidates participating in the North Carolina Special Primary, Special Runoff and Special General Elections shall file a Pre-Primary Report on April 18, 2019; a Pre-Runoff Report on June 27, 2019; a Pre-General Report on August 29, 2019; and a Post-General Report on October 10, 2019. (See chart below for the closing date for each report.)

Unauthorized Committees (PACs and Party Committees)

Political committees not filing monthly in 2019 are subject to special election reporting if they make previously undisclosed contributions or expenditures in connection with the North Carolina Special Primary, Special Runoff or Special General Elections by the close of books for the applicable report(s). (See charts below for the closing date for each report.)

Committees filing monthly that make contributions or expenditures in connection with the North Carolina Special Primary, Special Runoff or Special General Elections will continue to file according to the monthly reporting schedule.

Additional disclosure information in connection with the North Carolina Special Elections may be found on the FEC website at https://www.fec.gov/help-candidates-and-committees/dates-and-deadlines/.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $18,700 during the special election reporting periods. (See charts below for closing date of each period.) 11 CFR 104.22(a)(5)(v), (b), 110.17(e)(2), (f).

¹ The reporting period always begins the day after the closing date of the last report filed. If the committee is new and has not previously filed a report, the first report must cover all activity that occurred before the committee registered as a political committee up through the close of books for the first report due.

Calendar of Reporting Dates for North Carolina Special Election
Report | Close of books ¹ | Reg./cert. & overnight mailing deadline | Filing deadline
Campaign Committees Involved in Only the Special Primary (04/30/19) Must File:
April Quarterly |  | ----WAIVED---- |
Pre-Primary | 04/10/19 | 04/15/19 | 04/18/19
July Quarterly | 06/30/19 | 07/15/19 | 07/15/19
PACs and Party Committees Not Filing Monthly Involved in Only the Special Primary (04/30/19) Must File:
Pre-Primary | 04/10/19 | 04/15/19 | 04/18/19
Mid-Year | 06/30/19 | 07/31/19 | 07/31/19
If Only Two Elections Are Held, Campaign Committees Involved in Both the Special Primary (04/30/19) and Special General (07/09/19) Must File:
April Quarterly |  | ----WAIVED---- |
Pre-Primary | 04/10/19 | 04/15/19 | 04/18/19
Pre-General | 06/19/19 | 06/24/19 | 06/27/19
July Quarterly | 06/30/19 | 07/15/19 | 07/15/19
Post-General | 07/29/19 | 08/08/19 | 08/08/19
October Quarterly | 09/30/19 | 10/15/19 | 10/15/19
If Only Two Elections Are Held, PACs and Party Committees Not Filing Monthly Involved in Both the Special Primary (04/30/19) and Special General (07/09/19) Must File:
Pre-Primary | 04/10/19 | 04/15/19 | 04/18/19
Pre-General | 06/19/19 | 06/24/19 | 06/27/19
Mid-Year |  | ----WAIVED---- |
Post-General | 07/29/19 | 08/08/19 | 08/08/19
Year-End | 12/31/19 | 01/31/20 | 01/31/20
If Only Two Elections Are Held, Campaign Committees Involved in Only the Special General (07/09/19) Must File:
Pre-General | 06/19/19 | 06/24/19 | 06/27/19
July Quarterly | 06/30/19 | 07/15/19 | 07/15/19
Post-General | 07/29/19 | 08/08/19 | 08/08/19
October Quarterly | 09/30/19 | 10/15/19 | 10/15/19
If Only Two Elections Are Held, PACs and Party Committees Not Filing Monthly Involved in Only the Special General (07/09/19) Must File:
Pre-General | 06/19/19 | 06/24/19 | 06/27/19
Mid-Year |  | ----WAIVED---- |
Post-General | 07/29/19 | 08/08/19 | 08/08/19
Year-End | 12/31/19 | 01/31/20 | 01/31/20
If Three Elections Are Held, Campaign Committees Involved in Only the Special Primary (04/30/19) and Special Runoff (07/09/19) Must File:
April Quarterly |  | ----WAIVED---- |
Pre-Primary | 04/10/19 | 04/15/19 | 04/18/19
Pre-Runoff | 06/19/19 | 06/24/19 | 06/27/19
July Quarterly | 06/30/19 | 07/15/19 | 07/15/19
If Three Elections Are Held, PACs and Party Committees Not Filing Monthly Involved in Only the Special Primary (04/30/19) and Special Runoff (07/09/19) Must File:
Pre-Primary | 04/10/19 | 04/15/19 | 04/18/19
Pre-Runoff | 06/19/19 | 06/24/19 | 06/27/19
Mid-Year | 06/30/19 | 07/31/19 | 07/31/19
If Three Elections Are Held, Campaign Committees Involved in Only the Special Runoff (07/09/19) Must File:
Pre-Runoff | 06/19/19 | 06/24/19 | 06/27/19
July Quarterly | 06/30/19 | 07/15/19 | 07/15/19
If Three Elections Are Held, PACs and Party Committees Not Filing Monthly Involved in Only the Special Runoff (07/09/19) Must File:
Pre-Runoff | 06/19/19 | 06/24/19 | 06/27/19
Mid-Year | 06/30/19 | 07/31/19 | 07/31/19
Campaign Committees Involved in the Special Primary (04/30/19), Special Runoff (07/09/19), and Special General (09/10/19) Must File:
April Quarterly |  | ----WAIVED---- |
Pre-Primary | 04/10/19 | 04/15/19 | 04/18/19
Pre-Runoff | 06/19/19 | 06/24/19 | 06/27/19
July Quarterly | 06/30/19 | 07/15/19 | 07/15/19
Pre-General | 08/21/19 | 08/26/19 | 08/29/19
Post-General | 09/30/19 | 10/10/19 | 10/10/19
October Quarterly |  | ----WAIVED---- |
Year-End | 12/31/19 | 01/31/20 | 01/31/20
PACs And Party Committees Not Filing Monthly Involved in the Special Primary (04/30/19), Special Runoff (07/09/19), and Special General (09/10/19) Must File:
Pre-Primary | 04/10/19 | 04/15/19 | 04/18/19
Pre-Runoff | 06/19/19 | 06/24/19 | 06/27/19
Mid-Year | 06/30/19 | 07/31/19 | 07/31/19
Pre-General | 08/21/19 | 08/26/19 | 08/29/19
Post-General | 09/30/19 | 10/10/19 | 10/10/19
Year-End | 12/31/19 | 01/31/20 | 01/31/20
If Three Elections Are Held, Campaign Committees Involved in Only the Special General (09/10/19) Must File:
Pre-General | 08/21/19 | 08/26/19 | 08/29/19
Post-General | 09/30/19 | 10/10/19 | 10/10/19
October Quarterly |  | ----WAIVED---- |
Year-End | 12/31/19 | 01/31/20 | 01/31/20
If Three Elections Are Held, PACs and Party Committees Not Filing Monthly Involved in Only the Special General (09/10/19) Must File:
Pre-General | 08/21/19 | 08/26/19 | 08/29/19
Post-General | 09/30/19 | 10/10/19 | 10/10/19
Year-End | 12/31/19 | 01/31/20 | 01/31/20

On behalf of the Commission,
Dated: March 7, 2019.
Matthew S. Petersen,
Vice Chairman, Federal Election Commission.

[FR Doc. 2019-04482 Filed 3-11-19; 8:45 am]

BILLING CODE 6715-01-P